DEPARTMENT OF DEFENSE

Department of the Army

Availability of Patents for Exclusive, Partially Exclusive or Nonexclusive Licenses

AGENCY: U.S. Army Soldier and Biological Chemical Command, U.S. Army, DoD.

ACTION: Notice.

SUMMARY: The Department of the Army announces the general availability of exclusive, partially exclusive, or nonexclusive licenses under the following Australia patent that is listed in the SUPPLEMENTARY INFORMATION paragraph. Any licenses granted shall comply with 35 U.S.C. 209 and 37 CFR part 404.

FOR FURTHER INFORMATION CONTACT: Mr. Robert Rosenkrans at U.S. Army Soldier and Biological Chemical Command, Kansas Street, Natick, MA 01760, Phone; (508) 233-4928 or E-mail: Robert.Rosenkrans@natick.army.mil .

SUPPLEMENTARY INFORMATION: The following Australia Patent Number, title and issue date is provided:

Australia Patent Number: 720323.

Title: Load Securing and Releasing System.

Issue Date: May 25, 2000.

Gregory D. Showalter,
Army Federal Register Liaison Officer.

[FR Doc. 00-29086 Filed 11-13-00; 8:45 am]

BILLING CODE 3710-08-P